OFFICE OF THE UNITED STATES TRADE REPRESENTATIVE

Identification of Countries Under Section 182 of the Trade Act of 1974: Request for Public Comment

AGENCY: Office of the United States Trade Representative.

ACTION: Correction to notice of request for written submissions from the public.

SUMMARY: The Office of the United States Trade Representative published a document in the Federal Register on December 26, 2001, concerning request for submissions on foreign countries' acts, policies, and practices that are relevant to the decision whether particular trading partners should be identified under Section 182 of the Trade Act. The document contained incorrect address details for submission and reviews of those comments and an incorrect title for one of the contacts for further information.

FOR FURTHER INFORMATION CONTACT: Claude Burcky, Deputy Assistant U.S. Trade Representative for Intellectual Property (202) 395-6864; Kira Alvarez, Director for Intellectual Property (202) 395-6864; Stephen Kho or Victoria Espinel, Assistant General Counsels (202) 395-7305, Office of the United States Trade Representative.

Correction

In the Federal Register of December 26, 2001, in 66 FR 66492, correct the address to read:

ADDRESSES: FR0012@USTR.GOV.

In the Federal Register of December 26, 2001, in 66 FR 66492, correct the contact details to read: Claude Burcky, Deputy Assistant U.S. Trade Representative for Intellectual Property.

In the Federal Register of December 26, 2001, in 66 FR 66493, correct the contact details to read:

All comments should be sent to Sybia Harrison Special Assistant to the Section 301 committee, at the following email address: FR0012@USTR.GOV. Please note, only electronic submissions will be accepted.

In the Federal Register of December 26, 2001, in 66 FR 66493, correct the contact details for the Public Inspection of Submissions to read:

An appointment to review the file may be made by calling Sybia Harrison, (202) 395-9411.

Joseph Papovich,
Assistant USTR for Services, Investment and Intellectual Property.

[FR Doc. 02-1890 Filed 1-24-02; 8:45 am]

BILLING CODE 3190-01-M